NATIONAL SCIENCE FOUNDATION

Notice of Permit Applications Received Under the Antarctic Conservation Act of 1978 (Public Law 95-541)

AGENCY: National Science Foundation

ACTION: Notice of Permit Modification Received under the Antarctic Conservation Act of 1978, Public law 95-541.

SUMMARY: National Science Foundation (NSF) is required to publish a notice of requests to modify permits issued to conduct activities regulated under the Antarctic Conservation Act of 1978. NSF has published regulations under the Antarctic Conservation Act at title 45 part 670 of the Code of Federal Regulations. This is the required notice of a requested permit modification.

DATES: Interested parties are invited to submit written data, comments, or views with respect to this permit application by January 19, 2004. Permit applications may be inspected by interested parties at the Permit Office, address below.

ADDRESSES: Comments should be addressed to Permit Office, Room 755, Office of Polar Programs, National Science Foundation, 4201 Wilson Boulevard, Arlington, Virginia 22230.

FOR FURTHER INFORMATION CONTACT: Nadene G. Kennedy at the above address or (703) 292-7405.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas as requiring special protection. The regulations establish such a permit system to designate Antarctic Specially Protected Areas.

Description of Permit Modification Requested: The Foundation issued a permit (2000-001) to Dr. Steven Emslie on September 21, 1999. The issued permit allows the applicant to enter various Antarctic Specially Protected Areas on an opportunistic basis to conduct surveys and excavate modern and abandoned penguin colonies. The permit also allows for the collection of organic remains (bones, feathers, eggshell fragments, etc.).

The applicant requests a modification to his permit to allow access to the Antarctic Specially Protected Area at Cape Adare (ASPA #158) and associated huts and artifacts to collect historic penguin tissue.

Location: ASPA 158—Huts and Associated Artifacts, Cape Adare.

Dates: January 1, 2005, to January 31, 2005.

Nadene G. Kennedy,
Permit Officer, Office of Polar Programs.

[FR Doc. 04-27762 Filed 12-17-04; 8:45 am]

BILLING CODE 7555-01-M